DEPARTMENT OF LABOR

Employment and Training Administration

[TA-W-54,821]

Burlington Industries LLC Corporate Office, a Division of WL Ross & Company LLC Now Known as International Textile Group, Inc., Greensboro, NC

Amended Certification Regarding Eligibility To Apply for Worker Adjustment Assistance and Alternative Trade Adjustment Assistance

In accordance with section 223 of the Trade Act of 1974 (19 U.S.C. 2273), and section 246 of the Trade Act of 1974, (26 U.S.C. 2913), as amended, the Department of Labor issued a Certification of Eligibility To Apply for Worker Adjustment Assistance and Alternative Trade Adjustment Assistance on June 9, 2004, applicable to workers of Burlington Industries LLC, Corporate Office, a division of WL Ross & Company LLC, Greensboro, North Carolina. The notice was published in the Federal Register on July 7, 2004 (69 FR 40984).

At the request of the State agency, the Department reviewed the certification for workers of the subject firm. New information shows that Burlington Industries LLC, Corporate Office, a division of WL Ross & Company LLC was purchased by International Textile Group, Inc. during 2004. Workers wages at the subject firm are being reported under the Unemployment Insurance (UI) tax account for International Textile Group, Inc., Greensboro, North Carolina.

Accordingly, the Department is amending the certification to properly reflect this matter.

The intent of the Department's certification is to include all workers of Burlington Industries LLC, Corporate Office, a division of WL Ross & Company LLC, now known as International Textile Group who was adversely affected by increased imports.

The amended notice applicable to TA-W-54,821 is hereby issued as follows:

All workers of Burlington Industries LLC, Corporate Office, a division of WL Ross & Company LLC, now known as International Textile Group, Inc., Greensboro, North Carolina (TA-W-54,821), who became totally or partially separated from employment on or after February 5, 2004, through June 9, 2006, are eligible to apply for adjustment assistance under Section 223 of the Trade Act of 1974, and are also eligible to apply for alternative trade adjustment assistance under Section 246 of the Trade Act of 1974.

Signed at Washington, DC this 14th day of October 2005.
Richard Church,
Certifying Officer, Division of Trade Adjustment Assistance.

[FR Doc. E5-5882 Filed 10-24-05; 8:45 am]

BILLING CODE 4510-30-P